DEPARTMENT OF ENERGY

Federal Energy Regulatory Commission

[Project No. 5638-002]

French River Land Company, Northwoods Renewables LLC; Notice of Transfer of Exemption

1. By letter filed February 21, 2013, French River Land Company and Northwoods Renewables LLC informed the Commission that the exemption from licensing for the Ashland Paper Mill Project, FERC No. 5638, originally issued April 9, 1982,¹ has been transferred to Northwoods Renewables LLC. The project is located on the Squam River in Grafton County, New Hampshire. The transfer of an exemption does not require Commission approval.

¹ 19 FERC ¶ 62,045, Order Granting Exemption from Licensing of a Small Hydroelectric Project of 5 Megawatts or Less.

2. Mr. James World, Northwoods Renewables LLC, located at 55 Main Street, Lancaster, NH 03584 is now the exemptee of the Ashland Paper Mill Project, FERC No. 5638.

Dated: February 27, 2013.
Kimberly D. Bose,
Secretary.

[FR Doc. 2013-05122 Filed 3-5-13; 8:45 am]

BILLING CODE 6717-01-P